COMMITTEE FOR PURCHASE FROM PEOPLE WHO ARE BLIND OR SEVERELY DISABLED

Procurement List Additions and Deletions

AGENCY: Committee for Purchase From People Who Are Blind or Severely Disabled.

ACTION: Additions to and deletions from Procurement List.

SUMMARY: This action adds to the Procurement List services to be furnished by nonprofit agencies employing persons who are blind or have other severe disabilities, and deletes from the Procurement List products and services previously furnished by such agencies.

DATES: Effective Date: 2/8/2010.

ADDRESSES: Committee for Purchase From People Who Are Blind or Severely Disabled, Jefferson Plaza 2, Suite 10800, 1421 Jefferson Davis Highway, Arlington, Virginia 22202-3259.

FOR FURTHER INFORMATION CONTACT: Patricia Briscoe, Telephone: (703) 603-7740, Fax: (703) 603-0655, or e-mail CMTEFedReg@AbilityOne.gov.

SUPPLEMENTARY INFORMATION:

Additions

On 11/6/2009 (74 FR 57453-57454), the Committee for Purchase From People Who Are Blind or Severely Disabled published notice of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Janitorial Services, Jamestown Service Center, 8430 Country Club Street, Jamestown, ND.

NPA: Alpha Opportunities, Inc., Jamestown, ND.

Contracting Activity: Department of Energy, Headquarters Procurement Services, Washington, DC.

Service Type/Locations: Parts Machining Service, 515 N. 51st Ave #130, Phoenix, AZ.

NPA: Arizona Industries for the Blind, Phoenix, AZ; 5316 West State Street, Milwaukee, WI.

NPA: Wiscraft Inc.—Wisconsin Enterprises for the Blind, Milwaukee, WI; 2601 South Plum, Seattle, WA.

NPA: The Lighthouse for the Blind, Inc. (Seattle Lighthouse), Seattle, WA.

Contracting Activity: Defense Logistics Agency, Defense Supply Center Philadelphia, Philadelphia, PA.

Deletions

On 10/23/2009 (74 FR 54783-54784) and 11/6/2009 (74 FR 57453-57454), the Committee for Purchase From People Who Are Blind or Severely Disabled published notices of proposed deletions from the Procurement List.

After consideration of the relevant matter presented, the Committee has determined that the products and services listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 46-48c) in connection with the products and services deleted from the Procurement List.

End of Certification

Accordingly, the following products and services are deleted from the Procurement List:

Products

Business Cards

NSN: P.S. NIB 49.

NSN: P.S. NIB 50.

NSN: P.S. NIB 51.

NPA: The Lighthouse for the Blind, Inc. (Seattle Lighthouse), Seattle, WA.

Contracting Activity: U.S. Postal Service, Washington, DC.

NSN: 7045-01-483-7450—Disk File 40, 3½″ Disks.

NSN: 7045-01-483-7841—Visionguard Anti-Glare Screen.

NSN: 7045-01-483-7842—MixMedia Tower.

NSN: 7045-01-483-9271—CD Jewel Case, Gold Tray, Five Pack.

NSN: 7045-01-483-9272—CD Jewel Case, Gold Tray, Ten Pack.

NSN: 7045-01-483-9273—CD Radial Cleaner.

NSN: 7045-01-483-9274—CD-ROM Drive Clean.

NSN: 7045-01-483-9275—CD Fast Wipes 20.

NSN: 7045-01-483-9276—CD-ROM Drive Clean.

NSN: 7045-01-483-9277—CD Scratch Repair System.

NSN: 7045-01-483-9407—CD Jewel Case, Standard, Three Pack.

NPA: Wiscraft Inc.—Wisconsin Enterprises for the Blind, Milwaukee, WI.

Contracting Activity: GSA/FSS OFC SUP CTR—Paper Products, New York, NY.

NSN: 7510-00-455-7339—Fastener, Paper.

NPA: Delaware County Chapter, NYSARC, Inc., Walton, NY.

Contracting Activity: GSA/FSS OFC SUP CTR—Paper Products, New York, NY.

Candle, Illuminating

NSN: 6260-00-161-4296.

NPA: Concho Resource Center, San Angelo, TX.

Contracting Activity: GSA/FAS Southwest Supply Center (QSDAC), Fort Worth, TX.

Line, Tent, Manila

NSN: 8340-00-252-2269.

NPA: ASPIRO, Inc., Green Bay, WI.

Contracting Activity: Defense Supply Center Philadelphia, Philadelphia, PA.

Services

Service Type/Location: Janitorial/Custodial, U.S. Army Reserve Center, OMS, RD 8 Box 282 A, Kittanning, PA.

NPA: Rehabilitation Center and Workshop, Inc., Greensburg, PA.

Contracting Activity: Dept of the Army, XR W6BA ACA Army Reserve Cont Ctr, Ft Dix, NJ.

Service Type/Location: Janitorial/Custodial, Internal Revenue Service, 11631 Caroline Road, Philadelphia, PA.

NPA: A.C.E. Industries, Inc., Exton, PA.

Contracting Activity: Dept of Treas, Internal Revenue Service, OFC of Procurement Operations, Oxon Hill, MD.

Service Type/Location: Janitorial/Custodial, Willow Grove Naval Air Station, Willow Grove, PA.

NPA: A.C.E. Industries, Inc., Exton, PA.

Contracting Activity: Dept of the Navy, U.S. Fleet Forces Command, Norfolk, VA.

Patricia Briscoe,
Deputy Director, Business Operations.

[FR Doc. 2010-158 Filed 1-8-10; 8:45 am]

BILLING CODE 6353-01-P